DEPARTMENT OF THE INTERIOR

National Park Service

[NPS-WASO-NRNHL-DTS#-29032; PPWOCRADI0, PCU00RP14.R50000]

National Register of Historic Places; Notification of Pending Nominations and Related Actions

AGENCY: National Park Service, Interior.

ACTION: Notice.

SUMMARY: The National Park Service is soliciting comments on the significance of properties nominated before September 28, 2019, for listing or related actions in the National Register of Historic Places.

DATES: Comments should be submitted by October 31, 2019.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before September 28, 2019. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

IOWA

Linn County

Lisbon Main Street Historic District, 101-145 E. and W. Main St., 102-122 W. Main St., Lisbon, SG100004555

MASSACHUSETTS

Worcester County

Old Settlers' Burying Ground, Main St., Lancaster, SG100004558

Jewett Piano Company Building, 140 Adams St., Leominster, SG100004559

Middle Cemetery, Main St., Lancaster, SG100004560

OHIO

Butler County

Powell-Decker Farm, 2720 Cincinnati-Brookville Rd., Fairfield, SG100004562

Cuyahoga County

WHK Studio One, 4900-5002 Euclid, Cleveland, SG100004561

OREGON

Marion County

Beauchamp Building, (Downtown Area of Stayton MPS), 395 North Third Ave., Stayton, MP100004557

WISCONSIN

Jefferson County

Stoppenbach, Emil and Flora, House, 207 E. Racine St., Jefferson, SG100004596

Sawyer County

Moody's Camp Lodge, 10472 W. Murphy Blvd., Spider Lake, SG100004556

A request for removal has been made for the following resources:

GEORGIA

Meriwether County

Warner-Hill House, La Grange Rd., Greenville vicinity, OT74000693

Terrell County

Dawson Woman's Clubhouse, 311 6th Ave., Dawson, OT82002484

Additional documentation has been received for the following resource:

MICHIGAN

Emmet County

Douglas, James and Jean, House, 3490 S. Lake Shore Dr., Friendship Township, AD16000232

Nominations submitted by Federal Preservation Officers:

The State Historic Preservation Officer reviewed the following nominations and responded to the Federal Preservation Officer within 45 days of receipt of the nominations and supports listing the properties in the National Register of Historic Places.

ARIZONA

Coconino County

Sunset Crater-Cinder Lake Apollo Mission Testing and Training Historic District, Roughly bounded by Sunset Crater Volcano National Monument and Sunset Crater, West Quadrangle, Flagstaff, SG100004595

CALIFORNIA

San Bernardino County

Cut Spring Corral, (Historic Ranching Resources within Mojave National Preserve MPS), Near Cima Rd., Cima, MP100004567

Kessler Spring Ranch Headquarters, (Historic Ranching Resources within Mojave National Preserve MPS), Cima Rd., Cima, MP100004568

White Rock Spring Corral, (Historic Ranching Resources within Mojave National Preserve MPS), Near Cima Rd., Cima, MP100004569

Cut Tank Corral, (Historic Ranching Resources within Mojave National Preserve MPS), Near Morningstar Mine Rd., Cima, MP100004570

Cottonwood Corral, (Historic Ranching Resources within Mojave National Preserve MPS), Near Morningstar Mine Rd., Cima, MP100004571

6 Mile Corral, (Historic Ranching Resources within Mojave National Preserve MPS), Morningstar Rd., Cima, MP100004572

10 Mile Corral, (Historic Ranching Resources within Mojave National Preserve MPS), Near Morningstar Mine Rd., Cima, MP100004573

Thomas Place Corral, (Historic Ranching Resources within Mojave National Preserve MPS), Near Cedar Canyon Rd., Cima, MP100004574

8 Mile Corral, (Historic Ranching Resources within Mojave National Preserve MPS), Near Kelso-Cima Rd., Cima, MP100004575

Marl Spring Corral, (Historic Ranching Resources within Mojave National Preserve MPS), Near Old Government Rd., Kelso, MP100004576

Barnwell RSLCC Headquarters, (Historic Ranching Resources within Mojave National Preserve MPS), Hart Mine Rd. near Ivanpah Rd., Nipton, MP100004577

Barnwell Corral and Wells, (Historic Ranching Resources within Mojave National Preserve MPS), Near Barnwell on Hart Mine Rd., Nipton, MP100004578

Dove Corral, (Historic Ranching Resources within Mojave National Preserve MPS), Remote location in New York Mountains, Nipton, MP100004579

OX Ranch Headquarters, (Historic Ranching Resources within Mojave National Preserve MPS), Lanfair Rd., Goffs, MP100004580

Pipeline Corral, (Historic Ranching Resources within Mojave National Preserve MPS), Near Lanfair Rd., Goffs, MP100004581

Hackberry Corral, (Historic Ranching Resources within Mojave National Preserve MPS), Near Lanfair Rd., Goffs, MP100004583

Lanfair Corral, (Historic Ranching Resources within Mojave National Preserve MPS), Near Lanfair Rd., Goffs, MP100004584

Payne Corral, (Historic Ranching Resources within Mojave National Preserve MPS), Off Cedar Canyon Rd. near Rock Spring, Cima, MP100004585

Government Holes, (Historic Ranching Resources within Mojave National Preserve MPS), Cedar Canyon Rd. near Rock Spring, Cima, MP100004586

Watson Well Corral, (Historic Ranching Resources within Mojave National Preserve MPS), S. of Cedar Canyon Rd., Cima, MP100004587

Valley View Ranch Headquarters, (Historic Ranching Resources within Mojave National Preserve MPS), Near Cima Rd., Cima, MP100004588

Valley View Ranch Corral, (Historic Ranching Resources within Mojave National Preserve MPS), Near Cima Rd., Cima, MP100004589

Deer Spring Corral, (Historic Ranching Resources within Mojave National Preserve MPS), Near Cima Rd., Cima, MP100004590

Natural Corral, (Historic Ranching Resources within Mojave National Preserve MPS), Near I 15, Baker, MP100004591

Black Tank Corral, (Historic Ranching Resources within Mojave National Preserve MPS), Near I 15, Baker, MP100004592

Rock Tank Corral, (Historic Ranching Resources within Mojave National Preserve MPS), Near I 15, Baker, MP100004593

Murphy Well Corral, (Historic Ranching Resources within Mojave National Preserve MPS), Nipton Rd., Nipton, MP100004594

San Diego County

Piute Dry Corral, (Historic Ranching Resources within Mojave National Preserve MPS), Ten miles E. of Lanfair Rd., Goffs, MP100004582

Authority: Section 60.13 of 36 CFR part 60.

Dated: September 30, 2019.
Julie Ernstein,
Supervisory Archeologist, National Register of Historic Places/National Historic Landmarks Program.

[FR Doc. 2019-22534 Filed 10-15-19; 8:45 am]

BILLING CODE 4312-52-P